DEPARTMENT OF ENERGY

Federal Energy Regulatory Commission

Empire District Electric Company; Notice of Waiver Period for Water Quality Certification Application

On August 26, 2022, Empire District Electric Company submitted to the Federal Energy Regulatory Commission (Commission) a copy of its application for a Clean Water Act section 401(a)(1) water quality certification filed with the Missouri Department of Natural Resources (Missouri DNR), in conjunction with the above captioned project. Pursuant to 40 CFR 121.6 and section [4.34(b)(5), 5.23(b), 153.4, or 157.22] of the Commission's regulations,¹ we hereby notify the Missouri DNR of the following:

¹ 18 CFR [4.34(b)(5)/5.23(b)/153.4/157.22].

Date of Receipt of the Certification Request: July 28, 2022

Reasonable Period of Time to Act on the Certification Request: One year (July 28, 2023).

If Missouri DNR fails or refuses to act on the water quality certification request on or before the above date, then the agency certifying authority is deemed waived pursuant to section 401(a)(1) of the Clean Water Act, 33 U.S.C. 1341(a)(1).

Dated: August 31, 2022.
Kimberly D. Bose,
Secretary.

[FR Doc. 2022-19250 Filed 9-6-22; 8:45 am]

BILLING CODE 6717-01-P